OFFICE OF THE UNITED STATES TRADE REPRESENTATIVE

Notice of Meeting of the Industry Trade Advisory Committee on Small and Minority Business (ITAC-11)

AGENCY: Office of the United States Trade Representative.

ACTION: Notice of a Partially Opened Meeting.

SUMMARY: The Industry Trade Advisory Committee on Small and Minority Business (ITAC-11) will hold a meeting on Monday, March 4, 2013. The meeting will be opened to the public from 2:00 p.m. to 3:30 p.m.

DATES: The meeting is scheduled for March 4, 2012 unless otherwise notified.

ADDRESSES: The meeting will be held at the Ronald Reagan International Trade Center 1300 Pennsylvania Avenue NW., Suite M800, Training Room A, Washington, DC 20004.

FOR FURTHER INFORMATION CONTACT: Laura Hellstern, DFO for ITAC-11 at (202) 482-3222, Department of Commerce, 14th Street and Constitution Avenue NW., Washington, DC 20230.

SUPPLEMENTARY INFORMATION: The Agenda topics to be discussed are:

—Export.gov 2.0 Launch

—Doing Business in Africa Initiative

—Metropolitan Export Initiative

Tiffany Enoch,
Deputy Assistant U.S. Trade Representative, For Intergovernmental Affairs and Public Engagement.

[FR Doc. 2013-04155 Filed 2-21-13; 8:45 am]

BILLING CODE 3290-F3-P